OFFICE OF THE UNITED STATES TRADE REPRESENTATIVE

Notice of Meeting of the Industry Sector Advisory Committee on Small and Minority Business (ISAC-14)

AGENCY: Office of the United States Trade Representative.

ACTION: Notice of an opened Meeting.

SUMMARY: The Industry Sector Advisory Committee on Small and Minority Business (ISAC-14) will hold an opened meeting on November 13, 2001, from 9 a.m. to 3 p.m.

DATES: The meeting is scheduled for November 13, 2001, unless otherwise notified.

ADDRESSES: The meeting will be held in Conference Room 3720, of the Minority Business Development Agency (MBDA), located at 26 Federal Plaza, New York, NY, 10278.

FOR FURTHER INFORMATION CONTACT: Millie Sjoberg, Pam Wilbur or Kelly Parsons (principal contacts), at (202) 482-4792, Department of Commerce, 14th Street and Constitution Avenue, NW., Washington, DC 20230 or myself on (202) 395-6120.

SUPPLEMENTARY INFORMATION: During the opened portion of the meeting the agenda topics to be addressed will be:

• Presentation by officials from the Small Business Administration (SBA), MBDA, U.S. Customs, Federal Emergency Management Agency (FEMA), the New York City Mayor's office, the New York City Comptroller, the New York City public advocate, the New York City Fire Department, and a Wall Street Journal journalist; and

• Presentation by a New York City USFCS officer.

Elizabeth A. Gianini,
Acting Assistant U.S. Trade Representative for Intergovernmental Affairs and Public Liaison.

[FR Doc. 01-27007 Filed 10-25-01; 8:45 am]

BILLING CODE 3190-01-M